DEPARTMENT OF COMMERCE

Patent and Trademark Office

[Docket No. PTO-C-2021-0036]

Performance Review Board

AGENCY: United States Patent and Trademark Office, Commerce.

ACTION: Notice of revised board members.

SUMMARY: In conformance with the Civil Service Reform Act of 1978, the United States Patent and Trademark Office (USPTO) announces the appointment of persons to serve as members of its Performance Review Board (PRB). This is an update to the recently published Federal Register notice (published on August 4, 2021), to reflect the changes made to the board members serving in the Chair and Acting General Counsel positions due to the departure of Coke Stewart, who was Performing the Functions and Duties of the Deputy Under Secretary of Commerce for Intellectual Property and Deputy Director of the USPTO.

ADDRESSES: Office of Human Resources, USPTO, P.O. Box 1450, Alexandria, VA 22313-1450.

FOR FURTHER INFORMATION CONTACT: Lari B. Washington, Acting Director, Human Capital Management, USPTO, at 571-272-5187.

SUPPLEMENTARY INFORMATION: The membership of the USPTO PRB is as follows:

David L. Berdan, Chair, Performing the Functions and Duties of the Deputy Under Secretary of Commerce for Intellectual Property and Deputy Director of the USPTO.

Frederick W. Steckler, Vice Chair, Chief Administrative Officer, USPTO.

Andrew I. Faile, Acting Commissioner for Patents, USPTO.

David S. Gooder, Commissioner for Trademarks, USPTO.

Dennis J. Hoffman, Chief Financial Officer, USPTO.

Henry J. Holcombe, Chief Information Officer, USPTO.

David M. Shewchuk, Acting General Counsel, USPTO.

Mary Critharis, Chief Policy Officer and Director for International Affairs, USPTO.

Gerard F. Rogers, Chief Administrative Trademark Judge, USPTO.

Scott R. Boalick, Chief Administrative Patent Judge, USPTO.

Bismarck Myrick, Director of the Office of Equal Employment Opportunity and Diversity, USPTO.

Cara Duckworth, Acting Chief Communications Officer, USPTO.

Alternates:

Richard Seidel, Deputy Commissioner for Patents, USPTO.

Greg Dodson, Deputy Commissioner for Trademark Administration, USPTO.

Andrew Hirshfeld,
Commissioner for Patents, Performing the Functions and Duties of the Under Secretary of Commerce for Intellectual Property and Director of the United States Patent and Trademark Office.

[FR Doc. 2021-18893 Filed 8-31-21; 8:45 am]

BILLING CODE 3510-15-P